DEPARTMENT OF COMMERCE

National Oceanic and Atmospheric Administration

XRIN 0648-XT019

Atlantic Highly Migratory Species; 2006 Consolidated Atlantic Highly Migratory Species Fishery Management Plan; Three-Year Review of Individual Bluefin Quota Program

AGENCY: National Marine Fisheries Service (NMFS), National Oceanic and Atmospheric Administration (NOAA), Commerce.

ACTION: Notice of availability (NOA).

SUMMARY: NMFS announces the availability of the final version of Three-Year Review of the Individual Bluefin Quota (IBQ) Program. A Draft Three-Year Review of the IBQ Program was released on May 10, 2019. This Three-Year Review of the IBQ Program was conducted pursuant to the Magnuson-Stevens Fishery Conservation and Management Act (MSA) requirement that formal and detailed reviews of certain Limited Access Privilege Programs (LAPPs) be conducted.

ADDRESSES: The Three-Year Review is available by sending your request to Tom Warren at the mailing address specified below, or by calling the phone numbers listed below. Mail: Tom Warren, Highly Migratory Species Management Division, NOAA Greater Atlantic Regional Fisheries Office, 55 Great Republic Drive, Gloucester, MA 01930. The Three-Year Review may also be downloaded from the Atlantic Highly Migratory Species (HMS) website at: https://www.fisheries.noaa.gov/topic/atlantic-highly-migratory-species.

FOR FURTHER INFORMATION CONTACT: Tom Warren at 978-281-9260, or George Silva at 301-427-8503, or online at https://www.fisheries.noaa.gov/topic/atlantic-highly-migratory-species.

SUPPLEMENTARY INFORMATION: NMFS announces the availability of the final Three-Year Review of the IBQ Program. This document is consistent with the MSA requirement that calls for regional Fishery Management Councils and the Secretary to periodically conduct “formal and detailed” reviews of all LAPPs established after January 12, 2007 (MSA Section 303(c)(1)(G)). This MSA requirement includes those LAPPs established under Secretarial authority, such as the IBQ Program, which is a catch share program for bluefin tuna bycatch in the Atlantic HMS pelagic longline fishery. The guidelines state that the first review should be conducted no later than five years after the establishment of the catch share program.

The IBQ Program was established in 2015. Therefore, pursuant to the MSA requirement, NOAA Fisheries conducted a review, which is now completed and being made available to the public. This review is intended to evaluate the progress made in meeting the goals and objectives of the IBQ Program, implemented under Amendment 7 to the 2006 Consolidated Atlantic Highly Migratory Species Fishery Management Plan (2006 Consolidated HMS FMP). The IBQ Program was designed to provide individual vessel accountability for bluefin catch (landings and dead discards) and incentivize the pelagic longline fishery to minimize interactions with bluefin. A draft program review was conducted according to guidelines developed by NMFS Procedural Instruction 01-121-01, and released on May 10, 2019 (“Draft Three-Year Review of the Individual Bluefin Quota Program”; Draft Three-Year Review). NMFS presented a summary of the Draft Three Year Review, including key data elements, to the HMS Advisory Panel on May 22, 2019. The final version of the Three-Year Review incorporates the HMS Advisory Panel suggestions as well as updated information (2018 data) for several important parameters. The conclusions and the recommendations of the final Three-Year Review are the same as those in the Draft Three-Year Review.

Authority: 16 U.S.C. 971 et seq.; 16 U.S.C. 1801 et seq.

Dated: September 30, 2019.
Alan D. Risenhoover,
Director, Office of Sustainable Fisheries, National Marine Fisheries Service.

[FR Doc. 2019-21562 Filed 10-2-19; 8:45 am]

BILLING CODE 3510-22-P